DEPARTMENT OF COMMERCE

International Trade Administration

[A-533-936, A-570-186]

Overhead Door Counterbalance Torsion Springs From India and the People's Republic of China: Preliminary Affirmative Determinations of Critical Circumstances, in Part, in the Less-Than-Fair Value Investigations

AGENCY: Enforcement and Compliance, International Trade Administration, Department of Commerce.

SUMMARY: The U.S. Department of Commerce (Commerce) preliminarily determines that critical circumstances exist with respect to imports of overhead door counterbalance torsion springs (overhead door springs) from India and certain imports from the People's Republic of China (China).

DATES: Applicable July 29, 2025.

FOR FURTHER INFORMATION CONTACT: Seth Brown (India), Office IX at (202) 482-0029 or Jacob Keller (China), Office I at (202) 482-4849; AD/CVD Operations, Enforcement and Compliance, International Trade Administration, U.S. Department of Commerce, 1401 Constitution Avenue NW, Washington, DC 20230.

SUPPLEMENTARY INFORMATION:

Background

On November 25, 2024, Commerce initiated the less-than-fair-value (LTFV) investigations of overhead door springs from India and China.¹ On June 24, 2025, the IDC Group, Inc., Iowa Spring Manufacturing, Inc., and Service Spring Corp. (collectively, the petitioners) filed timely critical circumstances allegations, pursuant to section 733(e)(1) of the Tariff Act of 1930, as amended (the Act), and 19 CFR 351.206, alleging that critical circumstances exist with respect to overhead door springs from India and China.² Commerce published its preliminary LTFV determinations on June 2, 2025.³

¹ See Overhead Door Counterbalance Torsion Springs from the People's Republic of China and India: Initiation of Less-Than-Fair-Value Investigations, 89 FR 92895 (November 25, 2024) (Initiation Notice).

² See Petitioners' Letter, “Allegation of Critical Circumstances,” dated June 24, 2025 (Critical Circumstances Allegation China); see also Petitioners' Letter, “Allegation of Critical Circumstances,” dated June 24, 2025 (Critical Circumstances Allegation India).

³ See Overhead Door Counterbalance Torsion Springs from the People's Republic of China: Preliminary Affirmative Determination of Sales at Less Than Fair Value, 90 FR 23311 (June 2, 2025) (China Preliminary Determination), and accompanying Preliminary Decision Memorandum (PDM); see also Overhead Door Counterbalance Torsion Springs from India: Preliminary Affirmative Determination of Sales at Less Than Fair Value, Postponement of Final Determination, and Extension of Provisional Measures, 90 FR 23316 (June 2, 2025) (India Preliminary Determination), and accompanying PDM (collectively, Preliminary Determinations).

In accordance with 19 CFR 351.206(c)(1) and (c)(2)(ii), when a critical circumstances allegation is filed 30 days or more before the scheduled date of the final determination, but later than 20 days before the scheduled date of the preliminary determination, Commerce will make a preliminary finding whether there is a reasonable basis to believe or suspect that critical circumstances exits and will issue a preliminary critical circumstances determination within 30 days after the allegation is filed.

Legal Framework

Section 733(e)(1) of the Act provides that Commerce, upon receipt of a timely allegation of critical circumstances, will determine whether there is a reasonable basis to believe or suspect that: (A)(i) there is a history of dumping and material injury by reason of dumped imports in the United States or elsewhere of the subject merchandise, or (ii) the person by whom, or for whose account, the merchandise was imported knew or should have known that the exporter was selling the subject merchandise at less than fair value and that there was likely to be material injury by reasons of such sales; and (B) there have been massive imports of the subject merchandise over a relatively short period.

Further, 19 CFR 351.206(h)(1) provides that, in determining whether imports of the subject merchandise have been “massive,” Commerce will normally examine: (i) the volume and value of the imports; (ii) seasonal trends; and (iii) the share of domestic consumption accounted for by the imports. In addition, 19 CFR 351.206(h)(2) provides that, “{i}n general, unless the imports during the `relatively short period'. . . have increased by at least 15 percent over the imports during an immediately preceding period of comparable duration, the Secretary will not consider the imports massive.” Section 351.206(i) of Commerce's regulations defines “relatively short period” generally as the period starting on the date the proceeding begins (i.e., the date the petition is filed) and ending at least three months later. This section of the regulations further provides that, if Commerce “finds that importers, or exporters or producers, had reason to believe, at some time prior to the beginning of the proceeding, that a proceeding was likely,” Commerce may consider a period of not less than three months from that earlier time.

Critical Circumstances Allegations

India

In their allegation, the petitioners stated that, based on the dumping margins calculated in the petition (i.e., 46.75 percent to 126.14 percent), importers knew, or should have known, that imports of overhead door springs from India were being sold at LTFV because these margins exceeds the 25 and 15 percent thresholds established in Commerce's regulations for export price (EP) and constructed export price (CEP), respectively.⁴ Additionally, the petitioners contended that the U.S. International Trade Commission's (ITC's) preliminary affirmative injury determination provides a reasonable basis to impute importers' knowledge that material injury is likely by reason of such imports.⁵

⁴ See Critical Circumstances Allegation China; see also Critical Circumstances Allegation India.

⁵ See Overhead Door Counterbalance Torsion Springs from China and India, 89 FR 103877 (December 19, 2024) (ITC Preliminary Determination); see also Critical Circumstances Allegation China and Critical Circumstances Allegation India.

The petitioners also allege that there was a massive increase of imports of overhead door springs from India and provided monthly import data for the period June 2024 through March 2025.⁶ The petitioners state that a comparison of total imports, by quantity, for the base period June 2024 through October 2024 to the comparison period November 2024 through March 2025, shows imports of overhead door springs from India increased by 117.32 percent,⁷ which is considered “massive” under 19 CFR 351.206(h)(2).

⁶ See Critical Circumstances Allegation India at 8.

⁷ Id.

China

In their allegation, the petitioners stated that based on the dumping margins calculated in the petition (i.e., 669.36 percent to 778.31 percent), importers knew, or should have known, that imports of overhead door springs from China were being sold at LTFV because these margins exceed the 25 and 15 percent thresholds established in Commerce's regulations for EP and CEP, respectively.⁸ Additionally, the petitioners contended that the ITC's preliminary affirmative injury determination provides a reasonable basis to impute importers' knowledge that material injury is likely by reason of such imports.⁹

⁸ See Initiation Notice; see also Critical Circumstances Allegation China and Critical Circumstances Allegation India.

⁹ See ITC Preliminary Determination.

The petitioners also allege that there was a massive increase of imports of overhead door springs from China and provided monthly import data for the period June 2024 through March 2025.¹⁰ The petitioners state that a comparison period November 2024 through March 2025 shows that imports of overhead door springs from China increased by 25.44 percent,¹¹ which is considered “massive” under 19 CFR 351.206(h)(2).

¹⁰ See Critical Circumstances Allegation China at 8.

¹¹ Id.

Analysis

Generally, when determining whether critical circumstances exist pursuant to the statutory criteria, Commerce examines record evidence, including: (1) the evidence presented in the petitioners' allegation; (2) import statistics released by the ITC; and (3) shipment information submitted to Commerce by the respondents selected for individual examination.¹² Consistent with Commerce's practice, here we examined record information obtained since the initiation of this investigation.¹³

¹² See, e.g., Notice of Final Determination of Sales at Less Than Fair Value and Affirmative Final Determination of Critical Circumstances: Circular Welded Carbon Quality Steel Pipe from the People's Republic of China, 73 FR 31970, 31972-73 (June 5, 2008); see also Final Determination of Sales at Less Than Fair Value and Affirmative Determination of Critical Circumstances: Small Diameter Graphite Electrodes from the People's Republic of China, 74 FR 2049, 2052-53 (January 14, 2009).

¹³ See, e.g., Critical Circumstances Allegation China; and China Preliminary Determination. See also Critical Circumstances Allegation India; and India Preliminary Determination.

Use of Facts Available With Adverse Inferences

As discussed in the Preliminary Determinations, we determined that the use of facts otherwise available with adverse inferences (AFA), pursuant to sections 776(a) and (b) of the Act, was appropriate for the preliminary determination with respect to Asha Spring and Engineering Company (Asha Spring), Balaji Springs Pvt. Ltd. (Balaji Springs), Modern Engineering & Spring Company (Modern Engineering), and Reliable Springs Ltd (Reliable Springs) in the India LTFV investigation; and the China-wide entity which included the mandatory respondents Foshan Xulong Spring Factory (Xulong Spring) and Tianjin Wangxia Spring Co Ltd. (Tianjin Wangxia) in the China LTFV investigation. Therefore, because we determined that the use of AFA, pursuant to sections 776(a) and (b) of the Act, was necessary for this preliminary determination, we preliminarily find that necessary information is not on the record, pursuant to section 776(a)(1) of the Act. Thus, because these respondents in both the India and China LTFV investigations withheld information that Commerce requested, significantly impeded these proceedings, and failed to provide information within the deadlines established, pursuant to sections 776(a)(2)(A), (B), and (C) of the Act, respectively, we find that the use of the facts otherwise available is warranted. Furthermore, Alcomex Springs Pvt. Ltd. (Alcomex), the mandatory respondent in the India LTFV investigation, withdrew its participation following the preliminary determination; ¹⁴ therefore, information Alcomex provided cannot be verified, and pursuant to section 776(a)(D) of the Act we find that the use of facts otherwise available is appropriate for Alcomex. Consequently, we have made a preliminary determination of critical circumstances on the basis of facts otherwise available for Alcomex and other non-responsive companies in the India LTFV investigation and for the China-wide entity in the China LTFV investigation.

¹⁴ See Alcomex's Letter, “Alcomex's Withdrawal of Participation from Investigation,” dated June 3, 2025.

Section 776(b) of the Act provides that Commerce may use an adverse inference in selecting from among the facts otherwise available when a party fails to cooperate by not acting to the best of its ability to comply with a request for information. Further, section 776(b)(2) of the Act states that an adverse inference may include reliance on information derived from the petition, the final determination from the investigation, a previous administrative review, or other information submitted on the record. Because we find that the respondents listed above did not cooperate to the best of their abilities in these investigations, pursuant to section 776(b) of the Act, we find that adverse inferences are warranted in selecting from the facts otherwise available regarding certain aspects of these preliminary determinations of critical circumstances. We detail our use of adverse inferences in selecting from among the facts otherwise available below.

Section 733(e)(1)(A)(i) of the Act: History of Dumping and Material Injury by Reason of Dumped Imports in the United States or Elsewhere of the Subject Merchandise

In determining whether there is a history of dumping pursuant to section 733(e)(1)(A)(i) of the Act, Commerce generally considers current or previous antidumping duty (AD) orders on subject merchandise from the country in question in the United States and current orders in any other country with regard to imports of subject merchandise.¹⁵ There are no current or previous AD orders on overhead door springs from India or China in the United States, and Commerce is not aware of the existence of any active AD orders on overhead door springs from India or China in other countries. Therefore, Commerce preliminarily finds that there is no history of injurious dumping of overhead door springs from India or China; thus, this criterion is not met.

¹⁵ See, e.g., Certain Oil Country Tubular Goods from the People's Republic of China: Notice of Preliminary Determination of Sales at Less Than Fair Value, Affirmative Preliminary Determination of Critical Circumstances and Postponement of Final Determination, 74 FR 59117, 59120 (November 17, 2009), unchanged in Certain Oil Country Tubular Goods from the People's Republic of China: Final Determination of Sales at Less Than Fair Value, Affirmative Final Determination of Critical Circumstances and Final Determination of Targeted Dumping, 75 FR 20335 (April 19, 2010).

Section 733(e)(1)(A)(ii) of the Act: The Importer Knew or Should Have Known That the Exporter Was Selling at Less Than Fair Value and That There Was Likely To Be Material Injury

In determining whether importers knew or should have known that exporters were selling subject merchandise at LTFV and that there was likely to be material injury by reason of such sales, Commerce must rely on the facts before it at the time the determination is made. Commerce generally bases its decision with respect to knowledge on the margins calculated in the preliminary determination and the ITC's preliminary injury determination.¹⁶

¹⁶ See, e.g., Granular Polytetrafluoroethylene Resin from India: Preliminary Affirmative Determination of Sales at Less Than Fair Value, Preliminary Affirmative Determination of Critical Circumstances, Postponement of Final Determination, and Extension of Provisional Measures, 86 FR 49299 (September 2, 2021), and accompanying PDM at 15, unchanged in Granular Polytetrafluoroethylene Resin from India: Final Determination of Sales at Less Than Fair Value and Final Affirmative Determination of Critical Circumstances, 87 FR 3772 (January 25, 2022); see also Oil Country Tubular Goods from Mexico: Preliminary Affirmative Determinations of Sales at Less Than Fair Value and Critical Circumstances, Postponement of Final Determination, and Extension of Provisional Measures, 87 FR 28808 (May 11, 2022), and accompanying PDM at 11, unchanged in Oil Country Tubular Goods from Mexico: Final Affirmative Determinations of Sales at Less Than Fair Value and Critical Circumstances, 87 FR 59041 (September 29, 2022)

Commerce normally considers margins of 25 percent or more for EP sales and 15 percent or more for CEP sales to impute importer knowledge of sales at LTFV.¹⁷ For the India investigation, we preliminarily calculated a weighted-average dumping margin of 87.20 percent for Alcomex and all other producers and/or exporters, and the highest corroborated dumping margin alleged in the petition of 124.86 percent as the AFA rate for Asha Spring, Balaji Springs, Modern Engineering, and Reliable Springs.¹⁸ Because the preliminary dumping margins for India exceed the thresholds sufficient to impute knowledge of dumping, we preliminarily find that there is a reasonable basis to believe or suspect that these producers/exports of subject merchandise knew, or should have known, that the exporters were selling subject merchandise at LTFV.

¹⁷ See, e.g., Carbon and Alloy Steel Wire Rod from Germany, Mexico, Moldova, Trinidad and Tobago, and Ukraine: Preliminary Determination of Critical Circumstances, 67 FR 6224, 6225 (February 11, 2002) (Steel Wire Rod Prelim), unchanged in Notice of Final Determination of Sales at Less Than Fair Value: Carbon and Certain Alloy Steel Wire Rod from Moldova, 67 FR 55790 (August 30, 2002) (Steel Wire Rod Final).

¹⁸ See India Preliminary Determination PDM at 4-7.

For the China investigation, we preliminarily applied the highest corroborated dumping margin alleged in the petition of 778.31 percent as the AFA rate for Xulong Spring, Tianjin Wangxia, and the China-wide entity. We further preliminarily applied the simple average of the petition margins of 734.33 percent as the separate rate for the following Chinese exporters: Chi Hardware Corporation Limited (Chi Hardware), Hangzhou Fuxing Spring Co., Ltd. (Fuxing), Hebei Meirui Metals & Minerals Co., Ltd. (Hebei Meirui), MFG Direct (Ningbo) Limited (Ningbo Direct), Ningbo Well Lift Door Co., Ltd. (Ningbo Well), Wuxi JiuPie Information Technology Co., Ltd. (Wuxi JiuPie), and Wuxi Kop Door Technology Co., Ltd (Wuxi KOP).¹⁹ Because the preliminary dumping margins for China exceed the thresholds sufficient to impute knowledge of dumping, we preliminarily find that there is a reasonable basis to believe or suspect that these producers/exports of subject merchandise knew, or should have known, that the exporters were selling subject merchandise at LTFV.

¹⁹ See China Preliminary Determination. PDM

In determining whether an importer knew or should have known that there was likely to be material injury caused by reason of such imports, Commerce normally will look to the preliminary injury determination of the ITC.²⁰ If the ITC finds a reasonable indication of present material injury to the relevant U.S. industry, Commerce will determine that a reasonable basis exists to impute importer knowledge that material injury is likely by reason of such imports.²¹ Here, the ITC preliminarily found that there is “reasonable indication” of material injury to the domestic injury because of the imported subject merchandise from India and China.²² Therefore, the ITC's preliminary injury determination is sufficient to impute knowledge to imports of the likelihood of material injury. For India, Commerce determines that importers knew, or should have known, that there was likely to be material injury by reason of sales of overhead door springs by Alcomex, Asha Spring, Balaji Springs, Modern Engineering, and Reliable Springs. Additionally, for China, Commerce determines that importers knew, or should have known, that there was likely to be material injury by reason of sales of overhead door springs by Xulong Spring, Tianjin Wangxia, Chi Hardware, Fuxing, Hebei Meirui, Ningbo Direct, Ningbo Well, Wuxi JiuPie, Wuxi KOP, and the China-wide entity.

²⁰ See, e.g., Certain Potassium Phosphate Salts from the People's Republic of China: Preliminary Affirmative Determination of Critical Circumstances in the Antidumping Duty Investigation, 75 FR 24572, 24573 (May 5, 2010).

²¹ See, e.g., Steel Wire Rod Prelim, unchanged in Steel Wire Rod Final.

²² See ITC Preliminary Determination.

Section 733(e)(1)(B): Whether There Have Been Massive Imports of the Subject Merchandise Over a Relatively Short Period

In determining whether there have been “massive imports” over a “relatively short period,” pursuant to section 733(e)(1)(B) of the Act and 19 CFR 351.206(h), Commerce normally compares the import volumes of the subject merchandise for at least three months immediately preceding the filing of the petition (i.e., the “base period”) to a comparable period of at least three months following the filing of the petition (i.e., the “comparison period”). However, the regulations also provide that if Commerce finds that importers, or exporters or producers, had reason to believe, at some time prior to the beginning of the proceeding, that a proceeding was likely, Commerce may consider a period of not less than three months from that earlier time.²³ Pursuant to 19 CFR 351.206(h)(2), imports must increase by at least 15 percent during the “relatively short period” to be considered “massive.”

²³ See 19 CFR 351.206(i).

India

As discussed above, we are applying AFA in reaching our findings for certain aspects of this preliminary determination of critical circumstances. Specifically, for Alcomex, Asha Spring, Balaji Springs, Modern Engineering, and Reliable Springs, because of these companies' noncooperation in this investigation, we do not have information regarding their import volumes. Therefore, as AFA, we preliminarily find that the companies listed above had massive imports of subject merchandise over a relatively short period, satisfying the criterion under section 733(e)(1)(B) of the Act and 19 CFR 351.206(h). Thus, we preliminarily determine that critical circumstances exist regarding imports of overhead door springs from India shipped by Alcomex, Asha Spring, Balaji Springs, Modern Engineering, and Reliable Springs, pursuant to section 733(e) of the Act and 19 CFR 351.206.

To determine whether imports are massive within the meaning of 19 CFR 351.206(h) for all other exporters or producers, Commerce's normal practice is to subtract shipments reported by the cooperating mandatory respondents from the overall shipment data of subject merchandise. However, as stated above, there are no cooperative mandatory respondents in the India investigation. Therefore, for all other exporters and producers, we compared the monthly shipment data using import data from Trade Data Monitor (TDM) for the five months preceding and following the filing of the petition. Because the petition was filed on October 20, 2024, in order to determine whether there was a massive surge in imports, Commerce compared the total volume of shipments during the period June 2024 through October 2024 with the volumes of shipments during the period November 2024 through March 2025.²⁴ The quantity for shipments recorded in the TDM data for U.S. tariff schedule codes 7320.20.5020, 7320.20.5045, and 7320.20.5060 during the comparison period exceeded the quantity of shipments recorded for the base period by 15 percent.²⁵ Therefore, we determine that the record supports a determination that there is a massive surge in imports between the base and comparison periods for all other exporters and producers of overhead door springs from India.²⁶

²⁴ See Memorandum, “Preliminary Critical Circumstances Analysis,” dated concurrently with this memorandum (Critical Circumstances India Analysis Memorandum), at Attachment.

²⁵ Id.

²⁶ See, e.g., Prestressed Concrete Steel Wire Strand from Argentina, Colombia, Egypt, the Netherlands, Saudi Arabia, the Republic of Turkey, and the United Arab Emirates: Preliminary Affirmative Determinations of Sales at Less Than Fair Value and Preliminary Affirmative Critical Circumstances Determinations, in Part, 85 FR 61722 (September 30, 2020), and accompanying PDM at 12-16.

Accordingly, consistent with section 733(e)(1) of the Act, Commerce preliminary determines that critical circumstances exist for imports of overhead door springs from India from all exporters and producers. For the underlying data and results of Commerce's analysis, see the India Critical Circumstances Analysis Memorandum.

China

As discussed above, for China we are applying AFA to reach our findings for certain aspects of this preliminary determination of critical circumstances. Specifically, for Xulong Spring and Tianjin Wangxia, because of these companies' noncooperation in this investigation, we do not have information regarding their import volumes. Therefore, we preliminarily find that the respondents listed above had massive imports of subject merchandise over a relatively short period, satisfying the criterion under section 733(e)(1)(B) of the Act and 19 CFR 351.206(h). Thus, we preliminarily determine that critical circumstances exist regarding imports of overhead door springs from China shipped by Xulong Spring, Tianjin Wangxia, and the China-wide entity, pursuant to section 733(e) of the Act and 19 CFR 351.206. To determine whether imports are massive within the meaning of 19 CFR 351.206(h) for all other exporters or producers, Commerce's normal practice is to subtract shipments reported by the cooperating mandatory respondents from the overall shipment data of subject merchandise. However, as stated above, there are no cooperative mandatory respondents under the China investigation. Therefore, for all other exporters and producers, we compared the monthly shipment data using import data from Trade Data Monitor (TDM) for the five months preceding and following the filing of the petition. Because the petition was filed on October 20, 2024, in order to determine whether there was a massive surge in imports, Commerce compared the total volume of shipments during the period June 2024 through October 2024 with the volumes of shipments during the period November 2024 through March 2025.²⁷ The quantity for shipments recorded in the TDM data for U.S. tariff schedule codes 7320.20.5020, 7320.20.5045, and 7320.20.5060 during the comparison period did not exceed the quantity of shipments recorded for the base period by 15 percent.²⁸ Therefore, we determine that the record does not support a determination that there is a massive surge in imports between the base and comparison periods for all other exporters and producers of overhead door springs from China.²⁹

²⁷ See Memorandum, “Preliminary Critical Circumstances Analysis,” dated concurrently with this memorandum (Critical Circumstances China Analysis Memorandum), at Attachment.

²⁸ Id.

²⁹ See, e.g., Prestressed Concrete Steel Wire Strand from Argentina, Colombia, Egypt, the Netherlands, Saudi Arabia, the Republic of Turkey, and the United Arab Emirates: Preliminary Affirmative Determinations of Sales at Less Than Fair Value and Preliminary Affirmative Critical Circumstances Determinations, in Part, 85 FR 61722 (September 30, 2020), and accompanying PDM at 12-16.

Accordingly, consistent with section 733(e)(1) of the Act, Commerce preliminary determines that critical circumstances exist for imports of overhead door springs from China from the China-wide entity but do not exist with regards to Chinese separate rate companies. For the underlying data and results of Commerce's analysis, see the China Critical Circumstances Analysis Memorandum.

Preliminary Affirmative Determination of Critical Circumstances, in Part

Based on the criteria and findings discussed above, we preliminarily determine that critical circumstances exist with respect to all producers and/or exporters in India. Additionally, in China we preliminarily determine critical circumstances exist for the China-wide entity.

Final Critical Circumstances Determinations

We will make final determinations concerning critical circumstances in the final determinations of the China and India LTFV investigations, which are currently scheduled for August 11, 2025, and October 15, 2025, respectively.

Public Comment

Written comments limited to these preliminary critical circumstances determinations may be submitted to the Assistant Secretary for Enforcement and Compliance no later than three days after the date of publication of this notice. Rebuttal briefs, limited to issues raised in the case briefs, may be filed no later than two days after the date for filing case briefs. All comments regarding these preliminary critical circumstances determinations are subject to the same request for public executive summaries in case and rebuttal briefs, as noted in the Preliminary Determinations.³⁰

³⁰ See China Preliminary Determination, 89 FR at 23311; see also India Preliminary Determination, 89 FR at 23317.

Suspension of Liquidation

Section 733(e)(2) of the Act provides that, given an affirmative determination of critical circumstances, any suspension of liquidation shall apply to unliquidated entries of subject merchandise entered, or withdrawn from warehouse, for consumption on or after the later of: (a) the date which is 90 days before the date on which the suspension of liquidation was first ordered; or (b) the date on which notice of initiation of the investigation was published. Commerce preliminarily finds that critical circumstances exist for all imports of overhead door springs from India and China. In accordance with section 733(e)(2)(A) of the Act, the suspension of liquidation ordered in the Preliminary Determinations shall be amended to apply to all unliquidated entries of subject merchandise from all producers and exporters of overhead door springs from India and China that were entered, or withdrawn from warehouse, for consumption on or after the date which is 90 days before the date on which the suspension of liquidation was first ordered. These suspension of liquidation instructions will remain in effect until further notice.

U.S. ITC Notification

In accordance with section 773(f) of the Act, we will notify the ITC of these preliminary determinations of critical circumstances.

These determinations are issued and published pursuant to sections 733(f) and 777(i) of the Act and 19 CFR 351.206(c)(2)(iii).

Dated: July 24, 2025.
Christopher Abbot,
Deputy Assistant Secretary for Policy and Negotiations, performing the non-exclusive functions and duties of the Assistant Secretary for Enforcement and Compliance.

[FR Doc. 2025-14337 Filed 7-28-25; 8:45 am]

BILLING CODE 3510-DS-P